DEPARTMENT OF ENERGY

Federal Energy Regulatory Commission

[Docket No. RP13-889-000]

Mountaineer Gas Company v. Washington Gas Light Company: Notice of Complaint

Take notice that on April 30, 2013, Mountaineer Gas Company (Mountaineer or Complainant) filed a complaint against Washington Gas Light Company (WGL or Respondent), pursuant to the Natural Gas Act (NGA), 15 U.S.C. 717-717z, and Rule 206, 18 CFR 385.206, of the Federal Energy Regulatory Commission's Rules of Practice and Procedure, alleging that the WGL is charging Mountaineer increased rates for lost and unaccounted for (LAUF) gas that have not been approved or otherwise ruled upon by the Commission in Docket Nos. PR13-6 and PR13-7. Complainant alleges that WGL's unauthorized LAUF percentage increase violates the procedural requirements of section 4 of the NGA, is inconsistent with the Commission's established processing for WGL's LAUF applications, and is inconsistent with the terms of the parties' transportation agreement and WGL's tariff.

Mountaineer Gas Company certifies that copies of the complaint were served on the contacts of Washington Gas Light Company as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on May 20, 2013.

Dated: May 3, 2013.
Kimberly D. Bose,
Secretary.

[FR Doc. 2013-11041 Filed 5-8-13; 8:45 am]

BILLING CODE 6717-01-P